NATIONAL AERONAUTICS AND SPACE ADMINISTRATION

[Notice 12-083]

NASA Advisory Council; Technology and Innovation Committee; Meeting

AGENCY: National Aeronautics and Space Administration.

ACTION: Notice of meeting.

SUMMARY: The National Aeronautics and Space Administration (NASA) announces a meeting of the Technology and Innovation Committee of the NASA Advisory Council (NAC). The meeting will be held for the purpose of reviewing status of the Space Technology programs; status of activities within the Office of the Chief Technologist; update on the Advance Exploration Systems program; status of the Hypersonic Inflatable Aerodynamic Decelerator project; status of the Space Technology Research Grants program; and a Mars Science Laboratory update.

DATES: Thursday, November 15, 2012, 8:00 a.m. to 4:00 p.m., Local Time.

ADDRESSES: NASA Headquarters, 300 E Street SW., Room 2E39, Washington, DC 20546.

FOR FURTHER INFORMATION CONTACT: Mr. Mike Green, Office of the Chief Technologist, NASA Headquarters, Washington, DC 20546, (202) 358-4710, fax (202) 358-4078, or g.m.green@nasa.gov.

SUPPLEMENTARY INFORMATION: The meeting will be open to the public up to the capacity of the room. This meeting is also available telephonically and by WebEx. Any interested person may call the USA toll free conference call number 866-804-6184, pass code 3472886, to participate in this meeting by telephone. The WebEx link is https://nasa.webex.com/, the meeting number is 996 249 510, and the password is TICmte@1115.

The agenda for the meeting includes the following topics:

—Office of the Chief Technologist Update

—Status of NASA's Space Technology program

—Briefing and overview of NASA's Advanced Exploration Systems program

—Update on Mars Science Laboratory and role of technology in mission

—Update on Space Technology Research Grants program

—Status of the Hypersonic Inflatable Aerodynamic Decelerator project

It is imperative that the meeting be held on these dates to accommodate the scheduling priorities of the key participants. Attendees will be requested to sign a register and to comply with NASA security requirements, including the presentation of a valid picture ID, before receiving an access badge. U.S. Citizens will need to show a valid, officially-issued picture identification such as a driver's license to enter the NASA Headquarters building (West Lobby—Visitor Control Center) and must state that they are attending the NAC Technology and Innovation Committee meeting in room 2E39 before receiving an access badge. Permanent Residents will need to show residency status (valid green card) and a valid, officially issued picture identification such as a driver's license and must state that they are attending the NAC Technology and Innovation Committee meeting in Room 2E39 before receiving an access badge. U.S. Citizens and Permanent Residents are requested to submit their names and affiliation 5 working days prior to the meeting to Ms. Anyah Dembling via email at anyah.b.dembling@nasa.gov or by telephone at (202) 358-5195. Foreign Nationals must provide to NASA the following information: Full name; gender; date/place of birth; citizenship; social security number; green card information (resident alien number, expiration date); visa information (number, type, expiration date); passport information (number, country of issue, expiration date); employer/affiliation information (name of institution, title/position, address, country of employer, telephone, email address); and the title/position of attendee no less than 8 working days prior to the meeting by contacting Ms. Anyah Dembling via email at anyah.b.dembling@nasa.gov or by telephone at (202) 358-5195.

Patricia D. Rausch,
Advisory Committee Management Officer, National Aeronautics and Space Administration.

[FR Doc. 2012-25926 Filed 10-19-12; 8:45 am]

BILLING CODE 7510-13-P